DEPARTMENT OF COMMERCE

Foreign-Trade Zones Board

[B-41-2023]

Foreign-Trade Zone 277—Western Maricopa County, Arizona; Withdrawal of Application for Expansion (New Magnet Site) Under Alternative Site Framework

Notice is hereby given of the withdrawal of the application submitted by the Greater Maricopa Foreign Trade Zone, Inc., grantee of FTZ 277, requesting authority to expand its zone under the alternative site framework to include a new magnet site in El Mirage, Arizona. The application was docketed on June 26, 2023 (88 FR 42290, June 30, 2023). The withdrawal was requested by the grantee on January 2, 2024, following notification pursuant to 15 CFR 400.33(e)(1) of the examiner's preliminary recommendation not to approve the application.

Dated: January 2, 2024.
Elizabeth Whiteman,
Executive Secretary.

[FR Doc. 2024-00088 Filed 1-5-24; 8:45 am]

BILLING CODE 3510-DS-P